DEPARTMENT OF COMMERCE

International Trade Administration

Extension of Deadline of Request for Applicants for Appointment to the United States-Brazil CEO Forum

AGENCY: International Trade Administration, Department of Commerce.

ACTION: Notice.

SUMMARY: On March 16, 2015, the Department of Commerce (“the Department”) published a Federal Register notice requesting applications for appointment to the United States-Brazil CEO Forum, providing March 30, 2015, as the deadline to submit applications to the Department for immediate consideration.¹ This notice extends the deadline from March 30, 2015, to Monday, April 13, 2015.

¹ See Request for Applicants for Appointment to the United States-Brazil CEO Forum, 80 FR 13521 (March 16, 2015)(“Request for Applicants”).

DATES: Applications for immediate consideration should be received no later than close of business April 13, 2015. Applications will continue to be accepted until June 30, 2016, for appointments to fill future vacancies that may arise.

ADDRESSES: Please send requests for consideration to Braeden Young, Office of Latin America and the Caribbean, U.S. Department of Commerce, either by email at Braeden.Young@trade.gov or by mail to U.S. Department of Commerce, 1401 Constitution Avenue NW., Room CC334, Washington, DC 20230.

FOR FURTHER INFORMATION CONTACT: Braeden Young, Office of Latin America and the Caribbean, U.S. Department of Commerce, telephone: (202) 482-1093.

SUPPLEMENTARY INFORMATION: For more information on the United States-Brazil CEO Forum, please see the Request for Applicants. The Terms of Reference may be viewed at: http://www.trade.gov/ceo-forum/.

As delineated in the Request for Applicants, to be considered for membership, please submit the following information as instructed in the ADDRESSES and DATES captions above: Name(s) and title(s) of the individual(s) requesting consideration; name and address of company's headquarters; location of incorporation; size of the company; size of company's export trade, investment, and nature of operations or interest in Brazil; an affirmative statement that the applicant is neither registered nor required to register as a foreign agent under the Foreign Agents Registration Act of 1938, as amended; and a brief statement of why the candidate should be considered, including information about the candidate's ability to initiate and be responsible for activities in which the Forum will be active. Applications will be considered as they are received. All candidates will be notified of whether they have been selected.

Dated: March 25, 2015.
Alexander Peacher,
Acting Director for the Office of Latin America & the Caribbean.

[FR Doc. 2015-07385 Filed 3-30-15; 8:45 am]

BILLING CODE 3510-HE-P